DEPARTMENT OF COMMERCE

Bureau of Export Administration

Notice of Meeting With Interested Public To Discuss Sanctions Easing for North Korea

The Bureau of Export Administration (BXA), in conjunction with other federal agencies, will brief companies and interested organizations on recent changes in North Korea that have led to easing of trade sanctions. U.S. officials will provide information on the new rules for doing business with North Korea.

The meeting will be held July 6, 2000, at 9:30 a.m., at the Department of Commerce, Herbert C. Hoover Building, Room 6802, 14th Street between Pennsylvania Avenue and Constitution Avenue, NW, Washington, DC.

If you plan to attend, please fax your name and company or organization affiliation to ATTN: NORTH KOREA BRIEFING, at (202) 482-6088. For further information contact Frank Ruggiero in BXA at (202) 482-1926 or 482-4252. Interested parties requiring special accommodations should also contact BXA in advance.

Background

On June 19, 2000, BXA published regulations easing sanctions on North Korea. This implemented the Administration's September 1999 decision to ease sanctions provided North Korea maintains its moratorium on testing long-range ballistic missiles. U.S. exporters may now export the vast majority of U.S. consumer products to North Korea without a license, including agricultural, medical, and low-level industrial goods and services. The Administration's sanctions easing program continues to require a license for items on the Commerce Control List (CCL), including additional items added to the CCL on June 19. Items on the CCL include multilaterally controlled items, as well as a range of lower-level products and technologies controlled for anti-terrorism and non-proliferation reasons.

Other Federal agencies took related measures. The Transportation Department published a rule lifting the ban on U.S. ships and aircraft transporting goods or traveling to North Korea. Previously, U.S. registered ships and aircraft were prohibited from engaging in such activities. The Treasury Department published rules allowing new financial, trade and other transactions with North Korea and its nationals. Treasury will require a notification and approval process for all imports from North Korea.

BXA has scheduled a meeting for July 6 to more fully explain to industry and other organizations the new rules for conducting business with North Korea.

James A. Lewis,
Director, Office of Strategic Trade.

[FR Doc. 00-16886 Filed 7-3-00; 8:45 am]

BILLING CODE 3510-33-P